DEPARTMENT OF AGRICULTURE

Forest Service

Information Collection; Disposal of Mineral Materials

AGENCY: Forest Service, USDA.

ACTION: Notice; Request for Comment.

SUMMARY: In accordance with the Paperwork Reduction Act of 1995, the Forest Service is seeking comments from all interested individuals and organizations on the extension of a currently approved information collection; Disposal of Mineral Materials.

DATES: Comments must be received in writing on or before April 5, 2010 to be assured of consideration. Comments received after that date will be considered to the extent practicable.

ADDRESSES: Comments concerning this notice should be addressed to Ivette Torres, Liaison Specialist, Minerals and Geology Management, Mail Stop 1126, 1601 N. Kent Street─5th Floor, Forest Service, USDA, Arlington, VA 22209.

Comments also may be submitted via facsimile to 703-605-1575 or by e-mail to: ietorres@fs.fed.us.

The public may inspect comments received at the Office of the Director, Minerals and Geology Management, 1601 N. Kent Street─5th Floor, Forest Service, USDA, Arlington, VA during normal business hours. Visitors are encouraged to call ahead to 703-605-4792 to facilitate entry to the building.

FOR FURTHER INFORMATION CONTACT: Ivette Torres, Minerals and Geology Management Staff at 703-605-4792 to facilitate entry to the building. Individuals who use TDD may call the Federal Relay Service (FRS) at 1-800-877-8339, 24 hours a day, every day of the year, including holidays.

SUPPLEMENTARY INFORMATION: Title: Disposal of Mineral Materials.

OMB Number: 0596-0081.

Expiration Date of Approval: July 31, 2010.

Type of Request: Extension of a currently approved collection.

Abstract: The Mineral Materials Act of 1947, as amended, and the Multiple Use Mining Act of 1955, as amended, authorize the Secretary of Agriculture to dispose of petrified wood and common varieties of sand, stone, gravel, pumice, pumicite, cinders, clay, and other similar materials on lands administered by the USDA Forest Service. The collected information enables the Forest Service to document planned operations, to prescribe the terms and conditions the Agency deems necessary to protect surface resources, and to affect a binding contract agreement. Forest Service employees will evaluate the collected information to ensure that entities applying to mine mineral materials are financially accountable and will conduct their activities in accordance with the mineral regulations at Part 228, subpart C of Title 36 of the Code of Federal Regulations.

Individuals, organizations, companies, or corporations interested in mining mineral materials on National Forest System lands may contact their local Forest Service office to inquire about opportunities, to learn about areas on which such activities are permitted, and to request form FS-2800-9 (Contract of Sale for Minerals Materials). Interested parties are asked to provide information that includes the purchaser's name and address, the location and dimensions of the area to be mined, the kind of material that will be mined, the quantity of material to be mined, the sales price of the mined material, the payment schedule, the amount of the bond, and the period of the contract. If this information is not collected, the Forest Service would not comply with Federal regulations and operations to mine mineral materials could cause undue damage to surface resources.

Estimate of Annual Burden: 2.5 hours.

Type of Respondents: Mineral materials operators.

Estimated Annual Number of Respondents: 4,125.

Estimated Annual Number of Responses per Respondent: 1.

Estimated Total Annual Burden on Respondents: 10,313.

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: January 29, 2010.
Gloria Manning,
Associate Deputy Chief, NFS.

[FR Doc. 2010-2236 Filed 2-2-10; 8:45 am]

BILLING CODE 3410-11-P